DEPARTMENT OF THE INTERIOR

Bureau of Land Management

[(OR-120-5101 ER-H019) (2-0200)]

Notice of Availability for the Final Environmental Impact Statement (FEIS) on a Proposed Natural Gas Pipeline Right-of-Way

AGENCY: Bureau of Land Management (BLM), DOI.

ACTION: Notice of availability.

SUMMARY: Pursuant to Section 102(2)(C) of the National Environmental Policy Act of 1969, the Bureau of Land Management (BLM), Coos Bay District, directed the preparation of an EIS by Biological Information Specialists, Inc., a third party contractor, on the impacts of a proposed natural gas pipeline from near Roseburg in Douglas County, Oregon, to Coos Bay in Coos County, Oregon. BLM received a right-of-way application from the Coos County Board of Commissioners, under Section 501 of the Federal Land Policy and Management Act of October 21, 1976, (43 U.S.C. 1737) on May 17, 2000. The proposed pipeline will cross approximately 60 miles of public and private lands in Coos and Douglas Counties, Oregon. This notice initiates the public review process on the FEIS. The public is invited to review and comment on the range and adequacy of the alternatives and associated environmental effects.

DATES: The FEIS will be distributed and made available to the public approximately November 19, 2002, for a 30-day review period. Copies of the FEIS will be mailed to individuals, agencies, or companies who previously requested copies or who responded to the Bureau of Land Management on the Draft EIS. No decisions on the proposed action shall be made until at least 30 days after publication of a Notice of Availability by the Environmental Protection Agency (EPA).

ADDRESSES: Written comments should be sent to Bob Gunther, Project Coordinator, Coos Bay District, BLM, 1300 Airport Lane, North Bend, OR 97459. Documents pertinent to this proposal may be examined at the Coos Bay District Office in North Bend, Oregon and local libraries. The FEIS will also be available electronically at the BLM Coos Bay District Web site (http://www.or.blm.gov/coosbay) and the Coos County web site (http://www.co.coos.or.us). Comments, including names and street addresses of respondents, will be available for public review at the Coos Bay District Office during regular business hours 7:45 a.m. to 4:30 p.m., Monday through Friday, except holidays. Individual respondents may request confidentiality. If you wish to withhold your name or street address from public review or from disclosure under the Freedom of Information Act, you must state this prominently at the beginning of your written comment. Such requests will be honored to the extent allowed by law. All submissions from organizations and businesses, and from individuals identifying themselves as representatives or officials of organizations or businesses, will be available for public inspection in their entirety.

FOR FURTHER INFORMATION CONTACT: Bob Gunther, Project Coordinator, at address above or telephone (541-751-4295), fax: 541-751-4303, or e-mail comments to the attention of Bob_Gunther@or.blm.gov. For Technical Information contained in the EIS contact Melanie Little, Biologist, Biological Information Specialists, Inc., P.O. Box 27, Camas Valley, Oregon 97416, Telephone: (541) 445-2008.

SUPPLEMENTARY INFORMATION: The Coos County Board of Commissioners has applied for a right-of-way proposing to contract construction of a 12-inch natural gas transmission pipeline to be buried within the existing rights-of-ways of the Pacific Corp. (PP&L) and Bonneville Power Administration (BPA) electric transmission lines, and within the existing roadbed of the Coos Bay Wagon Road. The total length of the pipeline is approximately 60 miles, with approximately 3.0 miles located on lands administered by the BLM. The proposed pipeline would connect to the Williams Gas Pipeline at a meter facility southwest of Roseburg, in or near Section 33 Township 27 South, Range 6 West in Douglas County and would terminate at Ocean Boulevard in the city of Coos Bay (Section 27 Township 25 South, Range 13 West).

The natural gas transmission pipeline will deliver gas to distribution facilities built by Northwest Natural Gas in the communities of Coos Bay and North Bend. Smaller 6-inch or 4-inch laterals will be built off the mainline to serve the cities of Coquille, Myrtle Point, and perhaps Bandon at a later date. The location of the laterals has not been finalized, but they are anticipated to follow the location of existing powerline, State highway, or railroad rights-of-way. Locations of the distribution lines within the city limits are not known at this time, but are anticipated to be located within existing road rights-of-way.

The proposed pipeline will fall under the jurisdiction of U.S. Department of Transportation (DOT), as a natural gas transmission pipeline. It will be built and operated to all current specifications in 49 CFR Part 192 (Natural Gas Pipelines) and other relevant sections. The Oregon Public Utility Commission will administer DOT Pipeline Safety regulations for this pipeline.

The proposed pipeline will be designed with the appropriate design safety factors. The mainline is proposed as a welded steel pipeline with a Maximum Allowable Operating Pressure (MAOP) of 1,000 pounds per square inch (psi). The finished pipeline will be pressure tested to at least 150% of MAOP, to detect leakage or failure.

All construction will be done during daylight hours. Mainline construction will take about 6 months. Applicant plans to construct in the relatively dry summer months of April through October.

Pipeline construction will require a working space up to 60 feet wide. DOT requires a minimum of 30″ of cover in normal soils, 18″ in consolidated rock, 36″ under roads. The pipe will be installed to a target depth of 48″ to top of pipe. Some grading will be required to install the pipe, but shall be substantially restored to original grade before revegetation. All earth disturbance operations shall be subject to an erosion control plan to comply with U.S. Environmental Protection Agency (EPA) guidelines.

In sections along electrical transmission lines, the contractor shall be required to have and follow a plan to continuously ground the pipe, to protect workers from shock from induced currents.

Coos County plans to contract pipeline operations with an experienced pipeline operator. The County and its operator are required under DOT to formulate and use an Operations and Maintenance Plan specifically for this pipeline. The Operations and Maintenance Plan will include an Emergency Plan for specific procedures and notifications in case of an emergency.

Coos County plans to provide cathodic protection against corrosion, as required by DOT. Magnesium anodes will be placed at regular intervals along the pipeline, to sacrificially corrode and protect the coated steel pipe. This method normally mitigates most induced alternating current (AC). In sections near electrical transmission lines, supplemental anodes and other measures will be taken as necessary to minimize induced AC on the pipeline.

Long-term pipeline operation will require approximately 40 feet of space to be kept clear of larger brush and trees. Access roads to the BPA corridor will be restored as needed for pipeline construction and access for Operations and Maintenance.

After the initial pipeline construction period, there is no need to ever excavate any particular segment of pipe. Annual maintenance consists of checking depth of pipe in roadways, repairing any soil erosion, controlling brush, replacing line markers, painting and operating block valves, conducting leak surveys, and checking the effectiveness of the corrosion control system.

The Draft EIS was issued in December 2001. EPA published its Notice of Availability on January 25, 2002, with the formal public comment period closing on March 25, 2002. Thirty-nine comment letters were received. Comments have been analyzed, and appropriate changes have been made in the FEIS. Public comments have been summarized and printed in the FEIS along with BLM's responses.

A Notice of Availability for the Record of Decision on the project will be published at a later date.

Mark E. Johnson,
Acting District Manager.

[FR Doc. 02-29098 Filed 11-18-02; 8:45 am]

BILLING CODE 4310-33-P